DEPARTMENT OF HOMELAND SECURITY

[Docket No. FEMA-2008-0010]

National Fire Academy Board of Visitors

AGENCY: Federal Emergency Management Agency, DHS.

ACTION: Committee Management; Notice of Open Federal Advisory Committee Meeting.

SUMMARY: The National Fire Academy Board of Visitors will meet on April 1-2, 2009.

DATES: The meeting will take place Wednesday, April 1, 2009, from 8:30 a.m. to 5 p.m., e.s.t.; and Thursday, April 2, 2009, from 8:30 a.m. to 1:00 p.m., e.s.t. Comments must be submitted by April 8, 2009.

ADDRESSES: Members of the public who wish to obtain information for the public meeting may contact Teressa Kaas as listed in the FOR FURTHER INFORMATION CONTACT section by March 31, 2009. Members of the public may participate by coming to the National Emergency Training Center, Building H, Room 300, Emmitsburg, Maryland. Members of the general public who plan to participate in the meeting should contact Teressa Kaas as listed in the FOR FURTHER INFORMATION CONTACT section, on or before March 31, 2009. Written material as well as requests to have written material distributed to each member of the committee prior to the meeting should reach Teressa Kaas as listed in the FOR FURTHER INFORMATION CONTACT section by March 31, 2009. Comments must be identified by docket ID FEMA-2008-0010 and may be submitted by one of the following methods:

• Federal eRulemaking Portal: http://www.regulations.gov. Follow the instructions for submitting comments.

• E-mail: FEMA-RULES@dhs.gov. Include the docket ID in the subject line of the message.

• Fax: (866) 466-5370.

• Mail: Teressa Kaas, 16825 South Seton Avenue, Emmitsburg, Maryland 21727.

Instructions: All submissions received must include the docket ID for this action. Comments received will be posted without alteration at http://www.regulations.gov, including any personal information provided.

Docket: For access to the docket to read background documents or comments received by the National Fire Academy Board of Visitors, go to http://www.regulations.gov.

FOR FURTHER INFORMATION CONTACT: Teressa Kaas, 16825 South Seton Avenue, Emmitsburg, Maryland 21727, telephone (301) 447-1117, fax (301) 447-1173, and e-mail teressa.kaas@dhs.gov.

SUPPLEMENTARY INFORMATION: Notice of this meeting is given under the Federal Advisory Committee Act, 5 U.S.C. App. (Pub. L. 92-463). The National Fire Academy Board of Visitors will be holding a meeting for purposes of reviewing National Fire Academy Program activities, including the status of campus maintenance and capital improvements, the budget update, the Accreditation Committee Report, the National Fire Programs update, the Academy update, and Board discussions and new items. This meeting is open to the public.

The Chairperson of the National Fire Academy Board of Visitors shall conduct the meeting in a way that will, in her judgment, facilitate the orderly conduct of business. During its meeting, the committee welcomes public comment; however, comments will be permitted only during the public comment period. The Chairperson will make every effort to hear the views of all interested parties. Please note that the meeting may end early if all business is completed.

Information on Services for Individuals With Disabilities

For information on facilities or services for individuals with disabilities or to request special assistance at the meeting, contact Teressa Kaas as soon as possible.

Dated: March 5, 2009.
Denis G. Onieal,
Acting Assistant Administrator, U.S. Fire Administration, Federal Emergency Management Agency.

[FR Doc. E9-5540 Filed 3-12-09; 8:45 am]

BILLING CODE 9110-17-P